DEPARTMENT OF TRANSPORTATION

Federal Highway Administration

Notice of Final Federal Agency Actions on Proposed Highways in Texas

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to various proposed highway projects in the State of Texas. Those actions grant licenses, permits, and approvals for the projects.

DATES: By this notice, the FHWA is advising the public of final agency actions subject to 23 U.S.C. 139(l)(1). A claim seeking judicial review of the Federal agency actions on any of the listed highway projects will be barred unless the claim is filed on or before May 6, 2008. If the Federal law that authorizes judicial review of a claim provides a time period of less than 180 days for filing such claim, then that shorter time period still applies.

FOR FURTHER INFORMATION CONTACT: Salvador Deocampo, District Engineer, Texas Division, Federal Highway Administration, 826 Federal Building, Room 826, 300 E. 8th Street, Austin, Texas 78701, 8 a.m. to 5 p.m. Monday through Friday, 512-536-5950, salvador.deocampo@fhwa.dot.gov. Ms. Dianna Noble, P.E., Director Environmental Affairs Division, Texas Department of Transportation, 118 E. Riverside, Austin, Texas 78704; 512-416-2734; e-mail: dnoble@dot.state.tx.us. Texas Department of Transportation normal business hours are 8 a.m. to 5 p.m. (central time) Monday through Friday.

SUPPLEMENTARY INFORMATION: Notice is hereby given that the FHWA and other Federal agencies have taken final agency actions by issuing licenses, permits, and approvals for the highway projects in the State of Texas that are listed below. The actions by the Federal agencies on the projects, and the laws under which such actions were taken, are described in the documented environmental assessments (EAs), issued in connection with the projects, and in other documents in the FHWA project record for the project. The EA and other documents from the FHWA project record files for the listed projects are available by contacting the FHWA or TxDOT at the addresses provided above.

This notice applies to all Federal agency decisions on the listed projects as of the issuance date of this notice and all laws under which such actions were taken, including but not limited to:

I. General: National Environmental Policy Act (NEPA) [42 U.S.C. 4321-4351]; Federal-Aid Highway Act (FAHA) [23 U.S.C. 109].

II. Air: Clean Air Act (CAA), 42 U.S.C. 7401-7671(q).

III. Land: Section 4(f) of the Department of Transportation Act of 1966 (4f) [49 U.S.C. 303].

IV. Wildlife: Endangered Species Act (ESA) [16 U.S.C. 1531-1544 and Section 1536], Migratory Bird Treaty Act (MBTA) [16 U.S.C. 703-712].

V. Historic and Cultural Resources: Section 106 of the National Historic Preservation Act of 1966, as amended (106) [16 U.S.C. 570(f) et seq.]; Archeological Resources Protection Act of 1977 (ARPA) [16 U.S.C. 470(aa)-11]; Archeological and Historic Preservation Act (AHPA) [16 U.S.C. 469-469(c)].

VI. Social and Economic: Civil Rights Act of 1964 (Civil Rights) [42 U.S.C. 2000(d)-2000(d)(1)].

VII. Wetlands and Water Resources: Clean Water Act, 33 U.S.C. 1251-1377 (Section 404, Section 401, Section 402, Section 319); Rivers and Harbors Act of 1899 (RHA), 33 U.S.C. 401-406.)

VIII. Executive Orders: E.O. 11990 Protection of Wetlands; E.O. 11988 Floodplain Management; E.O. 11514 Protection and Enhancement of Environmental Quality.

The projects subject to this notice are:

1. State Highway (SH) 121 from FM 423 to US 75 in the county of Collin. Project Reference Number: TxDOT CSJ: 0364-03-066, etc. Project Type: The project will be for reconstruction and tolling of approximately fifteen and one half (15.5) miles of a 6 lane (3 in each direction) controlled access road with toll-free three lane frontage roads in each direction. Project Length: Approximately fifteen and one half (15.5) miles. General Purpose: The project will improve system linkage and mobility in the area in response to current and future traffic demand needs and development along SH 121. The actions by the Federal agencies on the project, and the laws under which such actions were taken, are described in the documented environmental assessment (EA), issued in connection with the project, and in other documents in the FHWA project record for the project. The EA and other documents from the FHWA project record files for the listed projects are available by contacting the FHWA or TxDOT at the addresses provided above and can be viewed and downloaded from the following Web site: http://www.keepitmovingdallas.com.

Final agency actions taken under: NEPA, FAHA, CAA, section 106, ESA, MBTA, ARPA, AHPA, Civil Rights Act, section 404 (USACE NWP14), section 401, section 402, E.O. 11990, and E.O. 11514. NEPA Documents: Actual EA/FONSI was determined on November 22, 1991 and was found to still be valid on October 17, 2002, April 14, 2006, and October 12, 2007.

2. Project Location: State Highway (SH) 121 interchange at US 75 in the county of Collin. Project Reference Number: TxDOT CSJ: 0364-04-040. Project Type: The project will be reconstruction and tolling of a 6 and 8 lane (3 and 4 in each direction) controlled access road with three lane frontage roads in each direction and construction of direct connectors between both mainlanes of SH 121 and US75.

Project Length: Approximately two and eight tenths (2.8) miles. General Purpose: The project will improve system linkage and mobility in the area in response to current and future traffic demand needs and development along SH 121. Final agency actions taken under: NEPA, FAHA, CAA, ESA, MBTA, ARPA, AHPA, Civil Rights Act, section 402, E.O. 11990, and E.O. 11514. NEPA Document: EA/FONSI issued April 20, 2006 and was found to still be valid October 12, 2007. Document available at: http://www.keepitmovingdallas.com.

(Catalog of Federal Domestic Assistance Program Number 20.205, Highway Planning and Construction. The regulations implementing Executive Order 12372 regarding intergovernmental consultation on Federal programs and activities apply to this program.)

Authority: 23 U.S.C. 139(l)(1).

Issued on: November 1, 2007.
Salvador Deocampo,
District Engineer.

[FR Doc. 07-5587 Filed 11-7-07; 8:45 am]

BILLING CODE 4910-22-M